FEDERAL COMMUNICATIONS COMMISSION

47 CFR Part 73

[DA 01-2625; MM Docket No. 01-176; RM- 10191]

Radio Broadcasting Services; Sykesville, PA

AGENCY: Federal Communications Commission.

ACTION: Final rule.

SUMMARY: This document allots Channel 240A to Sykesville, Pennsylvania, as that community's first local aural transmission service, in response to a petition for rule making filed on behalf of Sykesville Broadcasting. See 66 FR 42622, August 14, 2001. Coordinates used for Channel 240A at Sykesville, Pennsylvania, are 41-03-01 NL and 78-49-21 WL. As Sykesville is located within 320 kilometers of the U.S.-Canada border, concurrence of the Canadian government has been requested for Channel 240A at that community, but has not been received. Therefore, if a construction permit is granted for Channel 240A at Sykesville, Pennsylvania, prior to receipt of final notification by the Canadian government, the construction permit will include the following condition: “Operation with the facilities specified herein is subject to modification, suspension or termination without right to a hearing if found by the Commission to be necessary in order to conform to the Canada-USA FM Broadcast Agreement, or if specifically objected to by Industry Canada.” With this action, this docketed proceeding is terminated.

DATES: Effective December 24, 2001. A filing window for Channel 240A at Sykesville, Pennsylvania, will not be opened at this time. Instead, the issue of opening the allotment for auction will be addressed by the Commission in a subsequent Order.

FOR FURTHER INFORMATION CONTACT: Nancy Joyner, Mass Media Bureau, (202) 418-2180. Questions related to the application filing process for Channel 240A at Sykesville, Pennsylvania, should be addressed to the Audio Services Division, (202) 418-2700.

SUPPLEMENTARY INFORMATION: This is a synopsis of the Commission's Report and Order, MM Docket No. 01-176, adopted October 31, 2001, and released November 9, 2001. The full text of this Commission decision is available for inspection and copying during normal business hours in the FCC's Reference Center (Room CY-A257), 445 Twelfth Street, SW., Washington, DC. The complete text of this decision may also be purchased from the Commission's copy contractor, Qualtex International, Portals II, 445 12th Street, SW., Room CY-B402, Washington, DC 20554, telephone (202) 863-2893.

List of Subjects in 47 CFR Part 73

Radio Broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Pennsylvania, is amended by adding Sykesville, Channel 240A.

Federal Communications Commission.
John A. Karousos,
Chief, Allocations Branch, Policy and Rules Division, Mass Media Bureau.

[FR Doc. 01-29089 Filed 11-20-01; 8:45 am]

BILLING CODE 6712-01-P